DEPARTMENT OF ENERGY

National Nuclear Security Administration

Notice of Intent To Prepare an Environmental Impact Statement for The Proposed Relocation of the Los Alamos National Laboratory Technical Area 18 Missions

AGENCY: Department of Energy, National Nuclear Security Administration.

ACTION: Notice of Intent.

SUMMARY: On April 11, 2000, Energy Secretary Bill Richardson announced the Department of Energy's (DOE) proposal to relocate missions at Technical Area 18 (TA-18), a group of facilities at the Los Alamos National Laboratory (LANL), by the end of 2004. Secretary Richardson also announced that an environmental impact study on the proposed transfer of TA-18's missions to another location will begin immediately. Pursuant to the National Environmental Policy Act (NEPA) of 1969, as amended (42 USC 4321 et seq., and the DOE Regulations Implementing NEPA (10 CFR Part 1021), the National Nuclear Security Administration (NNSA), an agency within the Department of Energy, is announcing its intent to prepare an Environmental Impact Statement (EIS) for the Proposed Relocation of the TA-18 Missions.

TA-18 supports important defense, nuclear safety, and other national security missions. Though TA-18 is judged to be secure by the Department's independent inspection office, its facilities are between 30 and 50 years old and are increasingly expensive to maintain and operate. Relocating the TA-18 missions will enable the Department to conduct these missions in a more efficient and cost-effective manner. Currently, DOE expects that the TA-18 Relocation EIS will evaluate the environmental impacts associated with relocating the TA-18 missions to the following alternative locations: (1) A different site at LANL (the preferred alternative) at Los Alamos, New Mexico; (2) the Nevada Test Site (NTS) near Las Vegas, Nevada; (3) the Sandia National Laboratory (SNL) at Albuquerque, New Mexico; and (4) the Argonne National Laboratory—West (ANL-W) near Idaho Falls, Idaho. It is possible that this list of reasonable alternatives may change during the scoping process. The EIS will also evaluate the no-action alternative of maintaining the missions at the current TA-18 location.

DATES: Comments on the proposed scope of the TA-18 Relocation EIS are invited from the public. To ensure consideration in the preparation of the EIS, comments must be postmarked by June 1, 2000. Late comments will be considered to the extent practicable. Public scoping meetings to discuss issues and receive oral comments on the scope of the EIS will be held in the vicinity of sites that may be affected by the proposed action. The public scoping meetings will provide the public with an opportunity to present comments, ask questions, and discuss concerns with DOE/NNSA officials regarding the EIS. The location, date, and time for these public scoping meetings is as follows:

Los Alamos National Laboratory—May 17, 7 p.m.-10 p.m., Betty Ehart Senior Center, 2132 Central Avenue, Los Alamos, NM 87544.

Sandia National Laboratory—May 18, 7 p.m.-10:00 p.m., Albuquerque Convention Center, 401 Second Street, N.W., Albuquerque, NM 87102.

Nevada Test Site—May 23, 7 p.m.-10 p.m., U.S. DOE Nevada Operations Office Auditorium, 232 Energy Way, North Las Vegas, NV 89030.

Argonne National Laboratory—West—May 25, 7 p.m.-10 p.m., The Shilo Inn, 780 Lindsay Blvd., Idaho Falls, ID 83402.

Any agency that desires to be designated as a cooperating agency should contact Mr. Jay Rose at the address listed below by May 31, 2000.

ADDRESSES: General questions concerning the TA-18 Project can be asked by calling 1-800-832-0885, ext. 65484, or by writing to: Mr. Jay Rose, Document Manager, TA-18 Relocation EIS, U.S. Department of Energy/NNSA, 1000 Independence Avenue, S.W., Washington, D.C. 20585.

Comments can be submitted to Mr. Rose at the address above; or faxed to: 1-202-586-0467; or e-mailed to James.Rose@ns.doe.gov. Please mark envelopes, faxes, and E-mail: “TA-18 Relocation EIS Comments.”

FOR FURTHER INFORMATION CONTACT: For general information on the NNSA NEPA process, please contact: Mr. Henry Garson, NEPA Compliance Officer for Defense Programs, U.S. Department of Energy/NNSA, 1000 Independence Avenue, SW., Washington, DC 20585; or telephone 1-800-832-0885, ext. 30470. For general information on the DOE NEPA process, please contact: Ms. Carol M. Borgstrom, Director, Office of NEPA Policy and Assistance (EH-42), U.S. Department of Energy, 1000 Independence Avenue, SW., Washington, DC 20585, telephone 202-586-4600, or leave a message at 1-800-472-2756.

SUPPLEMENTARY INFORMATION: On April 11, 2000, Secretary of Energy Bill Richardson announced that the Department would begin preparation of an EIS on the proposed transfer of TA-18's capabilities and up to approximately 2 tons of special nuclear materials to another location. TA-18, known as the Pajarito Site, consists of a main building, three outlying remote-controlled critical assembly buildings known as “kivas”, several smaller laboratories, nuclear material storage vaults, and support buildings. The site is located on approximately 130 acres along Pajarito Road. The Los Alamos Critical Experiments Facility (LACEF) and other experimental facilities are located at TA-18, which is situated in the base of a canyon whose walls rise approximately 200 feet on three sides. The three kivas are Category 2 nuclear facilities (i.e., hazard analysis shows the potential for significant on-site consequences) and are within fenced areas to keep personnel at a safe distance during criticality experiments. Additionally, the entire TA-18 is bounded by a security fence to aid in physically safeguarding special nuclear material. Site access is through a guarded portal.

The principal TA-18 activities are the design, construction, research, development, and applications of experiments on nuclear criticality. Excluding security and support personnel, about 80 full-time employees work at TA-18. They provide expertise and knowledge in advanced nuclear technologies that support three primary areas: (1) Critical experiments in support of Stockpile Stewardship and other programs; (2) emergency response in support of counter-terrorism activities; and (3) safeguards and arms control in support of domestic and international programs to control excess nuclear materials. TA-18 is the nation's only facility capable of performing general-purpose nuclear materials handling for a variety of experiments, measurements and training. TA-18 also houses the Western Hemisphere's largest collection of machines for conducting nuclear safety evaluations and establishing limits for operations.

Since 1948, thousands of criticality experiments and measurements have been performed at TA-18 on assemblies using uranium-233, uranium-235, and plutonium-239 in various configurations, including nitrate, sulfate, and oxide compounds as well as solid, liquid, and gas forms. Critical assemblies at TA-18 are designed to operate at low-average power and temperatures well below phase change transition temperatures (which sets them apart from normal reactors) with low fission production and minimal inventory. Special nuclear materials are stored at kivas or in a vault. The on-site TA-18 nuclear materials inventory (about 2 metric tons of special nuclear materials) is relatively stable, and consists primarily of isotopes of plutonium and uranium. The bulk of the plutonium is metal, and is either clad or encapsulated; plutonium oxide is double-canned. The use of toxic and hazardous chemicals is limited. The criticality experiments generate very small amounts of fission products and there is little radioactive waste. Criticality experiments do not release significant emissions to the atmosphere at the site. A more detailed description of TA-18 activities and associated impacts can be found in the Site-Wide Environmental Impact Statement for Continued Operation of the Los Alamos National Laboratory (January 1999).

Purpose, Need, and Proposed Action

The Department proposes to provide a long-term capability to conduct criticality experiments and evaluations, develop emergency response procedures, and support non-proliferation safeguards and arms control. Since the 1980's, this capability has been based upon the operation of facilities at TA-18, some of which have been operational since 1946. Though TA-18 is judged secure by the Department of Energy's independent inspection office, its facilities are between 30 and 50 years old and are increasingly expensive to maintain and operate. The Defense Nuclear Facilities Safety Board has recommended, in 1993 and 1997, that the Department continue to maintain the capability to support the only remaining criticality safety program in the nation. Consistent with this, the Department wishes to maintain the important capabilities currently provided by TA-18 in a manner that reduces the long-term costs for safeguards and security. Relocating the TA-18 missions would reduce life-cycle costs and improve safeguards and security.

Alternatives

Currently, the NNSA expects that the TA-18 Relocation EIS will evaluate the environmental impacts associated with TA-18 missions at the following DOE sites: (1) a different location at LANL (the preferred alternative); (2) NTS; (3) SNL; and (4) ANL-W. This preliminary list of sites is based on the initial efforts of a Department-wide Option Study Group chartered to develop reasonable alternatives for conducting TA-18 missions. Site screening criteria were developed by the Group that looked for sites with existing Category I (highest level) security infrastructure; nuclear environment, safety and health infrastructure; and compatibility between the site and TA-18 missions. These alternatives are described in greater detail below.

LANL Alternative. This alternative would involve constructing a new facility near the TA-55 Plutonium Facility 4. Consolidating the TA-18 missions near the existing TA-55 facilities could significantly reduce future costs associated with safeguards and security by consolidating safeguards and security requirements. Following construction, the existing Perimeter Intrusion Detection and Assessment System (PIDAS) fence would be expanded to encompass the new facility. Other possible LANL locations for a new facility may also be identified.

NTS Alternative. This alternative would house the TA-18 missions at or near the existing Device Assembly Facility (DAF). The DAF, which became operational in 1998, has the capability to support a variety of nuclear explosive operations (including device assembly, disassembly, modification, staging, testing, repair, and surveillance). Currently, the DAF is used for assembly of sub-critical assemblies, as well as miscellaneous other national security missions. The DAF is approximately 100,000 square feet and has capacity available to accept the TA-18 missions with internal modifications and some minor external construction.

SNL Alternative. This alternative would house the TA-18 missions within TA-V at SNL. Currently, SNL operates a variety of research-oriented nuclear facilities in TA-V. Because existing space in TA-V could accommodate the TA-18 missions, no new buildings would be needed for this alternative. Internal modifications to existing buildings would be required.

ANL-W Alternative. This alternative would house the TA-18 missions in the existing Fuel Manufacturing Facility, and possibly the Transient Reactor Test Facility and other existing facilities. New construction to expand the existing Fuel Manufacturing Facility would be required to accommodate the TA-18 missions. Security upgrades may also be necessary.

As required by the Council on Environmental Quality regulations, the TA-18 Relocation EIS will also evaluate the no-action alternative of maintaining the missions at the current TA-18 location. This alternative would maintain the current missions at Technical Area 18 as described in the expanded use alternative of the Site-Wide Environmental Impact Statement for Continued Operation of the Los Alamos National Laboratory and Associated Record of Decision (64 FR 50797, September 20, 1999). As stated in the Site-Wide Environmental Impact Statement for Continued Operation of the Los Alamos National Laboratory, previously planned routine upgrades for infrastructure and security would be conduced in order to maintain the facility.

It is possible that this list of reasonable alternatives may change during the scoping process. In addition, as the EIS is being prepared, the NNSA will be examining the TA-18 missions in order to optimize the number and kind of facilities, and the amount of special nuclear material that would be required to carry out the missions. Following completion of the EIS process, the Secretary of Energy intends to decide where and how to conduct the TA-18 missions, as well as the future use of the existing TA-18 facilities.

Identification of Environmental and Other Issues

The NNSA has identified the following issues for analysis in the EIS. Additional issues may be identified as a result of the scoping process.

1. Public and Worker Safety, Health Risk Assessment: Radiological and non-radiological impacts, including projected effects on workers and the public from construction, normal operations and accident conditions, and decommissioning and decontamination activities associated with relocating and carrying out the TA-18 missions.

2. Impacts from releases to air, water, and soil associated with relocating and carrying out the TA-18 missions.

3. Impacts to plants, animals, and habitats, including threatened or endangered species and their habitats, associated with relocating and carrying out the TA-18 missions.

4. The consumption of natural resources and energy associated with relocating and carrying out the TA-18 missions.

5. Socioeconomic impacts to affected communities from construction and operation associated with relocating and carrying out the TA-18 missions.

6. Environmental justice: Disproportionately high and adverse human health or environmental effects on minority and low-income populations associated with relocating and carrying out the TA-18 missions.

7. Impacts to cultural resources such as historic, archaeological, scientific, or culturally important sites associated with relocating and carrying out the TA-18 missions. Because some facilities at TA-18 are over 50 years old, and potentially important in the context of the Cold War, these will be evaluated for their historical significance under all alternatives.

8. Impacts associated with transportation and storage of nuclear materials.

9. Status of compliance with all applicable Federal, state, and local statutes and regulations; required Federal, state, and tribe environmental consultations and notifications; and DOE Orders on waste management, waste minimization, and environmental protection.

10. Cumulative impacts from the proposed action and other past, present, and reasonably foreseeable actions at the alternative sites.

11. Potential irreversible and irretrievable commitments of resources associated with relocating and carrying out the TA-18 missions.

12. Pollution prevention and waste management practices, including characterization, storage, treatment and disposal of wastes associated with relocating and carrying out the TA-18 missions.

NNSA anticipates that certain classified information will be consulted in the preparation of this EIS and used by decision-makers to decide where and how the capabilities at TA-18 will be carried out. The EIS may contain a classified appendix. To the extent allowable, the EIS will summarize this information in an unclassified manner.

EIS Schedule

The importance of the TA-18 missions requires that the facilities remain operational until the final decision is made and implemented so there is minimal disruption to existing programs or commitments. To support a Record of Decision for this EIS by January 2001, the major milestones for the EIS are shown below.

Public Scoping Meetings: May 2000.

Publish Draft EIS: September 2000.

Draft EIS Public Hearings: October 2000.

Publish Final EIS: December 2000.

Record of Decision: January 2001.

To facilitate this schedule, the TA-18 Relocation EIS will tier from existing EISs for the four alternative sites, as appropriate. For example, the Department has previously prepared Site-Wide EISs for LANL (Site-Wide Environmental Impact Statement for Continued Operation of the Los Alamos National Laboratory, January 1999), SNL (Site-Wide Environmental Impact Statement for Sandia National Laboratories, Albuquerque, New Mexico, November 1999), and NTS (Environmental Impact Statement for the Nevada Test Site and Off-Site Locations in the State of Nevada, August 1996) that are expected to provide much of the existing environmental information. Additionally, several NEPA documents for ANL-W facilities will be utilized, including the Electro-metallurgical Treatment Research and Demonstration Project at ANL-W Environmental Assessment (May 1996) and the Treatment and Management of Sodium-Bonded Spent Nuclear Fuel EIS (Final EIS expected to be published in May 2000).

Public Scoping Process

To assist in defining the appropriate scope of the EIS and to identify significant environmental issues to be addressed, NNSA representatives will conduct public scoping meetings at the locations, dates, and times described above under DATES. Each scoping meeting will begin with an overview of the TA-18 missions, the current EIS alternatives, and the proposed EIS scope. Following the initial presentation, NNSA representatives will answer questions and accept comments. Copies of handouts from the meetings will be available to those unable to attend, by contacting the NNSA as described above under ADDRESSES.

Issued in Washington, D.C., this 26th day of April, 2000.
T. J. Glauthier,
Deputy Secretary of Energy, Department of Energy.

[FR Doc. 00-10897 Filed 5-1-00; 8:45 am]

BILLING CODE 6450-01-P